DEPARTMENT OF HOMELAND SECURITY

Coast Guard

33 CFR Part 165

[Docket No. USCG-2018-0252]

Safety Zone; Milwaukee Harbor, Milwaukee, WI

AGENCY: Coast Guard, DHS.

ACTION: Notice of enforcement of regulation.

SUMMARY: The Coast Guard will enforce the safety zone on the Milwaukee Harbor, Milwaukee, WI for annual fireworks displays in the Captain of the Port Lake Michigan zone at specified times from June 27, 2018 through September 8, 2018. This action is necessary and intended to ensure safety of life on navigable waterways before, during and after this event. During the enforcement period, entry into, transiting, or anchoring within the safety zone is prohibited unless authorized by the Captain of the Port Lake Michigan or a designated representative.

DATES: The regulations in 33 CFR 165.935 will be enforced at the times specified below in SUPPLEMENTARY INFORMATION from June 27, 2018 through September 8, 2018.

FOR FURTHER INFORMATION CONTACT: If you have questions about this notice of enforcement, call or email marine event coordinator MSTC Kaleena Carpino, Prevention Department, Coast Guard Sector Lake Michigan, Milwaukee, WI telephone (414) 747-7148, email D09-SMB-SECLakeMichgan-WWM@uscg.mil.

SUPPLEMENTARY INFORMATION: The Coast Guard will enforce the Milwaukee Harbor Safety Zone listed in 33 CFR 165.935 at the following times, for the following events.

(1) Summerfest Fireworks on June 27, 2018 from 9:30 p.m. to 10:30 p.m.

(2) Festa Italiana Fireworks on July 20, 21, and 22, 2018 from 10:30 p.m. to 11:30 p.m.

(3) German Fest Fireworks on July 27 and 28, 2018 from 10:30 p.m. to 11:30 p.m.

(4) Indian Summer Fireworks on September 8, 2018 from 10 p.m. to 11 p.m.

This action is being taken to provide for the safety of life on navigable waterways of the Milwaukee Harbor, Milwaukee, WI. This safety zone will encompass the waters of Lake Michigan within Milwaukee Harbor including the Harbor Island Lagoon enclosed by a line connecting the following points: Beginning at 43°02′00″ N, 087°53′53″ W; then south to 43°01′44″ N, 087°53′53″ W; then east to 43°01′44″ N, 087°53′25″ W; then north to 43°02′00″ N, 087°53′25″ W; then west to the point of origin. (NAD 83). Entry into, transiting, or anchoring within the safety zone is prohibited unless authorized by the Captain of the Port Lake Michigan or a designated on-scene representative.

This notice of enforcement is issued under authority of 33 CFR 165.935; Safety Zones, Milwaukee Harbor, Milwaukee, WI, and 5 U.S.C. 552 (a). In addition to this publication in the Federal Register, the Coast Guard plans to provide the maritime community with advance notification for the enforcement of this safety zone via Broadcast Notice to Mariners or Local Notice to Mariners. The Captain of the Port Lake Michigan or a representative may be contacted via Channel 16, VHF-FM or at (414) 747-7182.

Dated: May 29, 2018.
Thomas J. Stuhlreyer,
Captain, U.S. Coast Guard, Captain of the Port Lake Michigan.

[FR Doc. 2018-13338 Filed 6-20-18; 8:45 am]

BILLING CODE 9110-04-P